DEPARTMENT OF TRANSPORTATION

Federal Aviation Administration

14 CFR Part 39

[Docket No. FAA-2024-1699; Project Identifier AD-2023-01084-T; Amendment 39-22918; AD 2024-26-03]

RIN 2120-AA64

Airworthiness Directives; The Boeing Company Airplanes

AGENCY: Federal Aviation Administration (FAA), DOT.

ACTION: Final rule.

SUMMARY: The FAA is adopting a new airworthiness directive (AD) for certain The Boeing Company Model 767-200, -300, and -400ER series airplanes. This AD was prompted by a report of multiple engine indicating and crew alerting system messages during potable water servicing after the water leaked onto the electronics equipment cooling air filter. This AD requires installation of hoseducts around the left-side section 43 potable water supply hoses and connections, a potable water system leakage test, and applicable corrective actions. The FAA is issuing this AD to address the unsafe condition on these products.

DATES: This AD is effective March 7, 2025.

The Director of the Federal Register approved the incorporation by reference of a certain publication listed in this AD as of March 7, 2025.

ADDRESSES:

AD Docket: You may examine the AD docket at regulations.gov under Docket No. FAA-2024-1699; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Boeing material identified in this AD, contact Boeing Commercial Airplanes, Attention: Contractual & Data Services (C&DS), 2600 Westminster Blvd., MC 110 SK57, Seal Beach, CA 90740-5600; telephone 562 797 1717; website myboeingfleet.com.

• You may view this material at the FAA, Airworthiness Products Section, Operational Safety Branch, 2200 South 216th St., Des Moines, WA. For information on the availability of this material at the FAA, call 206-231-3195. It is also available at regulations.gov under Docket No. FAA-2024-1699.

FOR FURTHER INFORMATION CONTACT: Courtney Tuck, Aviation Safety Engineer, FAA, 2200 South 216th St., Des Moines, WA 98198; phone: 206-231-3986; email: Courtney.K.Tuck@faa.gov.

SUPPLEMENTARY INFORMATION:

Background

The FAA issued a notice of proposed rulemaking (NPRM) to amend 14 CFR part 39 by adding an AD that would apply to certain The Boeing Company Model 767-200, -300, and -400ER series airplanes. The NPRM published in the Federal Register on June 26, 2024 (89 FR 53367). The NPRM was prompted by a report of multiple engine indicating and crew alerting system messages during the potable water servicing for a Model 777 freighter airplane. The cause was found to be the separation of a fitting and steel water supply tube at a location above an electronics equipment cooling air filter, behind the forward cargo compartment left sidewall. The water from the soaked filter was then blown by the equipment cooling system onto multiple line replaceable units in the main electronics center. Model 767 passenger airplanes are similar in design to Model 777 freighter airplane. In the NPRM, the FAA proposed to require installation of hoseducts around the left-side section 43 potable water supply hoses and connections, a potable water system leakage test, and applicable corrective actions. The FAA is issuing this AD to address water leakage from the potable water system near the equipment cooling supply air inlet. The unsafe condition, if not addressed, could damage main electronics center components and result in loss of continued safe flight and landing.

Related Rulemaking

To address the identified unsafe condition on Model 777F series airplanes, the FAA issued AD 2021-06-03, Amendment 39-21469 (86 FR 12809, March 5, 2021), as an interim action that required deactivation of the potable water system. The FAA followed with AD 2022-23-10, Amendment 39-22237 (87 FR 73448, November 30, 2022).

Discussion of Final Airworthiness Directive

Comments

The FAA received comments from the Air Line Pilots Association, International (ALPA), Boeing, and United Airlines (UAL), who supported the NPRM without change.

The FAA received additional comments from Aviation Partners Boeing (APB), Delta Air Lines (Delta), United Parcel Service Co. (UPS Airlines), and Air Canada. The following presents the comments received on the NPRM and the FAA's response to each comment.

Effect of Winglets on Accomplishment of the Proposed Actions

APB stated that the installation of winglets per Supplemental Type Certificate (STC) ST01920SE does not affect compliance with the proposed actions.

The FAA agrees with the commenter. The installation of STC ST01920SE does not affect the ability to accomplish the actions required by this AD. The FAA has not changed this AD in this regard.

Request To Correct a Part Name in Boeing Service Bulletin

Delta requested that the FAA add an exception to paragraph (h) of the proposed AD as follows: Where the “Name” column for P/N NAS43DD6-24FC in step 5 of figure 11 and step 5 of figure 13 in Boeing Alert Requirements Bulletin 767-38A0076 RB, dated December 1, 2023, states “SPACERS FOR BOLTS,” this AD requires using “SPACER FOR BOLT.” Only one spacer needs to be installed.

The FAA agrees with the request. Only one spacer is to be installed in step 5 of figure 11 and step 5 of figure 13. The FAA has added paragraph (h)(2) to this AD accordingly.

Requests for Excluding Boeing Model 767-300 Bedek Special Freighters in Applicability

UPS Airlines requested that the FAA add the following statement to this AD: “This AD is not applicable to 767-300 airplanes listed in the Boeing Alert Requirements Bulletin 767-38A0076 RB, dated December 1, 2023, that were converted by Israel Aerospace Industries (IAI) STC number ST02040SE to freighter configuration where the subject hoses were removed.” UPS Airlines stated that it operates Boeing Model 767-300 series airplanes converted to freighter configuration by IAI, known as 767-300 Bedek Special Freighter (BDSF) fleet. The potable water hoses indicated in the Boeing service bulletin have been removed during freighter conversion by IAI STC number ST02040SE to freighter configuration.

Similarly, Air Canada requested that the FAA add a statement stating that this AD is not applicable to any Boeing Model 767-300 passenger airplanes listed in Boeing Alert Requirements Bulletin 767-38A0076 RB, dated December 1, 2023, that have been modified to a 767-300BDSF configuration. Air Canada operates six Model 767-300 airplanes that were modified to an all-cargo configuration as per IAI STC ST02040SE. During this modification the water system was removed similar to the Boeing Model 767-300 converted freighter airplanes.

The FAA agrees with the requests. The potable water hoses indicated in Boeing Alert Requirements Bulletin 767-38A0076 RB, dated December 1, 2023, have been removed during freighter conversion by IAI STC number ST02040SE to freighter configuration. The FAA has revised paragraph (c) of this AD accordingly.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed Boeing Alert Requirements Bulletin 767-38A0076 RB, dated December 1, 2023. This material specifies procedures for the following actions at the lower lobe section 43 potable water system plumbing on the left-side:

• Installing hoseducts and support clamps.

• Installing spray shields, new tie straps on the supply hose, and tee fitting shrouds, depending on the airplane configuration.

• Replacing the supply hoses and tee fittings for certain airplane configurations.

• Doing a potable water system leakage test and, for any leakage found, repeating the test until no leakage is found.

This material is reasonably available because the interested parties have access to it through their normal course of business or by the means identified in the ADDRESSES section.

Costs of Compliance

The FAA estimates that this AD affects 397 airplanes of U.S. registry. The FAA estimates the following costs to comply with this AD:

Estimated Costs
Action | Labor cost | Parts cost | Cost per product | Cost on U.S. operators
Install hose ducts, connections, and leakage test | Up to 19 work-hours × $85 per hour = $1,615 | Up to $1,130 | Up to $2,745 | Up to $1,089,765.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-26-03 The Boeing Company: Amendment 39-22918; Docket No. FAA-2024-1699; Project Identifier AD-2023-01084-T.

(a) Effective Date

This airworthiness directive (AD) is effective March 7, 2025.

(b) Affected ADs

None.

(c) Applicability

This AD applies to The Boeing Company Model 767-200, -300, and -400ER series airplanes, as identified in Boeing Alert Requirements Bulletin 767-38A0076 RB, dated December 1, 2023, excluding the airplanes that were converted by STC number ST02040SE to freighter configuration where the subject hoses were removed.

(d) Subject

Air Transport Association (ATA) of America Code 38, Water/waste.

(e) Unsafe Condition

This AD was prompted by a report of multiple engine indicating and crew alerting system messages during potable water servicing after the water leaked onto the electronics equipment cooling air filter. The FAA is issuing this AD to address water leakage from the potable water system near the equipment cooling supply air inlet. The unsafe condition, if not addressed, could damage main electronics center components and result in loss of continued safe flight and landing.

(f) Compliance

Comply with this AD within the compliance times specified, unless already done.

(g) Required Actions

Except as specified by paragraph (h) of this AD: At the applicable time specified in the “Compliance” paragraph of Boeing Alert Requirements Bulletin 767-38A0076 RB, dated December 1, 2023, do all applicable actions identified in, and in accordance with, the Accomplishment Instructions of Boeing Alert Requirements Bulletin 767-38A0076 RB, dated December 1, 2023.

Note 1 to paragraph (g): Guidance for accomplishing the actions required by this AD can be found in Boeing Alert Service Bulletin 767-38A0076, dated December 1, 2023, which is referred to in Boeing Alert Requirements Bulletin 767-38A0076 RB, dated December 1, 2023.

(h) Exceptions to Service Information Specifications

(1) Where the Boeing Recommended Compliance Time columns of the tables in the “Compliance” paragraph of Boeing Alert Requirements Bulletin 767-38A0076 RB, dated December 1, 2023, refer to “the Original Issue date of Requirements Bulletin 767-38A0076 RB,” this AD requires using the effective date of this AD.

(2) Where step 5 of figures 11 and 13 in Boeing Alert Requirements Bulletin 767-38A0076 RB, dated December 1, 2023, refers to the part name “spacers for bolts,” this AD requires replacing that text with “spacer for bolt.”

(i) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (j)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(j) Related Information

(1) For more information about this AD, contact Courtney Tuck, Aviation Safety Engineer, FAA, 2200 South 216th St., Des Moines, WA 98198; phone: 206-231-3986; email: Courtney.K.Tuck@faa.gov.

(2) Material identified in this AD that is not incorporated by reference is available at the address specified in paragraph (k)(3) this AD.

(k) Material Incorporated by Reference

(1) The Director of the Federal Register approved the incorporation by reference (IBR) of the service information listed in this paragraph under 5 U.S.C. 552(a) and 1 CFR part 51.

(2) You must use this material as applicable to do the actions required by this AD, unless the AD specifies otherwise.

(i) Boeing Alert Requirements Bulletin 767-38A0076 RB, dated December 1, 2023.

(ii) [Reserved]

(3) For Boeing material identified in this AD, contact Boeing Commercial Airplanes, Attention: Contractual & Data Services (C&DS), 2600 Westminster Blvd., MC 110-SK57, Seal Beach, CA 90740-5600; telephone 562-797-1717; website myboeingfleet.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on December 19, 2024.
Suzanne Masterson,
Deputy Director, Integrated Certificate Management Division, Aircraft Certification Service.

[FR Doc. 2025-02040 Filed 1-30-25; 8:45 am]

BILLING CODE 4910-13-P